DEPARTMENT OF HOUSING AND URBAN DEVELOPMENT

[Docket No. FR-4950-C-1C]

Notice of HUD's Fiscal Year (FY) 2005 Notice of Funding Availability Policy Requirements and General Section to SuperNOFA for HUD's Discretionary Grant Programs (SuperNOFA); Policy on Quality Assurance Review of Electronic Application Submission Difficulties

AGENCY: Office of the Secretary, HUD.

ACTION: Notice of Funding Availability (SuperNOFA) for HUD Discretionary Grant Programs; policy on quality control review of electronic application submission difficulties.

SUMMARY: On March 21, 2005, HUD published its Fiscal Year (FY) 2005 Notice of Funding Availability, Policy Requirements and General Section to the SuperNOFA for HUD's Discretionary Programs (SuperNOFA). The FY2005 SuperNOFA announced that, for the first time and consistent with the Administration's Electronic Government (E-Government) Initiative, applicants for HUD funding would be required to submit their applications electronically through the governmentwide grant portal, Grants.gov. While to date, the majority of applicants have been submitting successfully their applications electronically through Grants.gov, other applicants were found to have experienced difficulties with electronic submission to such an extent that they were unable to successfully submit their applications.

This notice announces that HUD is taking action to respond to these concerns and is conducting a quality assurance review to identify applicants that correctly followed all electronic application submission procedures, including registration for electronic submission, but were unable to submit an application because of technological problems. This notice provides HUD's review procedures as well as outlines the application submission procedures an applicant may follow if HUD determines that the applicant complied with all electronic submission requirements of the FY2005 SuperNOFA but was unable to submit an application because of technological difficulties. If HUD makes this determination, the applicant will be contacted by HUD and invited to submit a paper application.

DATES: Application submission dates remain as announced in the March 21, 2005, SuperNOFA as amended by subsequent notices of technical corrections.

FOR FURTHER INFORMATION CONTACT: For further information about each funded program, please contact the individual listed in the appendix to this notice.

SUPPLEMENTARY INFORMATION: On March 21, 2005 (70 FR 13575), HUD published its FY2005 SuperNOFA, which announced the availability of approximately $2.26 billion in HUD assistance. The FY2005 SuperNOFA also announced that, for the first time and consistent with the E-Government Initiative, applicants for HUD funding, except for the Continuum of Care funding opportunity, would be required to submit their applications electronically through the governmentwide grant portal, Grants.gov. The FY2005 SuperNOFA permitted prospective applicants to request a waiver of electronic submission for good cause, such as lack of a computer or absence of Internet service. Although to date, few applicants requested a waiver of electronic application submission and the majority of applicants successfully submitted their applications electronically through Grants.gov, HUD understands that some applicants may have been unable to submit their applications electronically due to unanticipated technological problems.

In response to applicant reports of difficulties with technology, this notice announces that HUD is undertaking a review of its records and those of Grants.gov to identify applicants that met all of the electronic submission requirements and instructions of the SuperNOFA, but were unable to submit an application electronically through Grants.gov because of problems with technology. This policy is in effect for all funding opportunities announced in the March 21, 2005, SuperNOFA, except for the Continuum of Care and Rural Housing and Economic Development programs. This policy also excludes any FY2005 funding opportunity that the Department reopens. As of the date of this publication, HUD is reopening the following competitions: Brownfields Economic Development Initiative, Youthbuild, Section 202 Supportive Housing for the Elderly, Section 811 Supportive Housing for Persons with Disabilities, Service Coordinators in Multifamily Housing, and Community Development Block Grant Program of Indian Tribes and Alaska Native Villages. HUD will announce the reopening of competitions through separate publication in the Federal Register.

If HUD determines that an applicant met the submission requirements and instructions of the SuperNOFA but was unable to submit its application because of unanticipated technological difficulties, the applicant will be invited to submit a paper application and be given five business days of receipt of notice from HUD to submit the paper application. The following describes HUD's policy and review procedures with respect to these unsuccessfully submitted applications.

Policy and Procedures on Quality Assurance Review of Unsuccessful Electronic Applications

HUD's quality assurance review will focus on those application submissions where HUD's records and those of Grants.gov document that the applicant followed all of the electronic submission requirements and instructions of the FY2005 SuperNOFA.

HUD's records and those of Grants.gov indicate that, of the group of applicants that were unable to submit an application electronically through Grants.gov, the majority were unable to do so because they failed to register for electronic application submission or failed to allow sufficient time to complete the registration process. As detailed in the General Section of the SuperNOFA, the registration process required applicants to obtain a Dun and Bradstreet Universal Data (DUNS) number (the DUNS number is a governmentwide and regulatory requirement for all grant applications), and register with the Federal Central Contractor Registry and with the credential provider for E-Authentication. As explained in the General Section of the FY2005 SuperNOFA, this registration process was necessary to ensure that the electronically submitted application was that of the applicant and that the individual or organization that submitted the application was authorized to submit it on behalf of the applicant.¹ The SuperNOFA also advised applicants to allow at least two weeks to complete the registration process. Applicants that failed to complete the registration process will not be considered for review.

¹ In addition to the General Section of the FY2005 SuperNOFA, HUD's Web broadcasts on the FY2005 SuperNOFA discussed the electronic application submission procedures, as did three mailings to prior applicants for HUD funding during the summer and fall of 2004.

Similarly, HUD records and those of Grants.gov reflect that other applicants were unable to submit an electronic application successfully because the applicant-provided password and ID number did not match the DUNS number provided in the application, thereby indicating that the applicant was not authorized to submit the application. Applicants that submitted applications with incorrect DUNS numbers will not be considered for review.

HUD's quality assurance review for application submission will focus on circumstances where an applicant's failure to submit an application in accordance with the electronic application submission procedures of the FY2005 SuperNOFA was based on unanticipated technological problems. In these cases, HUD will hold the applicant harmless and permit the applicant to submit a paper application.

Examples of unanticipated technological difficulties that may have resulted in an applicant's failure to submit an electronic application include:

• The records demonstrate that the applicant attempted to submit an application but was cut off by the applicant's Internet service provider and but for this circumstance the application would have been timely received for validation by Grants.gov;

• The records demonstrate that an applicant successfully began submission prior to the 11:59 p.m. application deadline, but completed the upload of the application on the date following the application due date. HUD will consider such applicants as having met the deadline date and time stamp requirements of the NOFA. HUD acknowledges that dial-up access can result in slow transmission of a large application and the applicant has no control over the upload processing time;

• The records indicate that the applicant was unable to submit an application because HUD inadvertently posted the same funding opportunity under two different funding opportunity numbers and, as a result, an application was rejected in error.

• The records reflect that an applicant completed the registration process in a timely manner but was rejected because the database did not recognize the registration; and

• Other unique situations brought to HUD's attention that may lead HUD to conclude that an applicant's failure to submit was based on misleading technical advice or other such technology-related problem.

As noted in today's Federal Register notice, HUD will base its review on its records and those of Grants.gov, including records from the Grants.gov Call Center. HUD will initiate this review when HUD believes it has sufficient information to determine whether an applicant's failure to submit was because of problems with technology.

Applicants that contacted the Grants.gov Call Center and believe they meet the conditions described in this notice may contact the individuals identified in the appendix to request that HUD review its application submission situation to determine whether the applicant is eligible for hard copy submission. Applicants in this situation must provide HUD the:

1. Applicant DUNS number;

2. Authorized Organization Representative (AOR) ID;

3. Applicant MPIN:

4. Catalog of Federal Domestic Assistance (CFDA) number and name of the program for which the applicant is seeking funding;

5. Grants.gov Help Desk Ticket number, if available;

6. Statement of the problem including dates and times, with whom the applicant spoke and advice provided, if available; and

7. Application submission tracking number received from Grants.gov, and date and approximate times of upload transmission, if applicable.

Failure to provide the information listed in items 1-4 will result in an applicant being ineligible for the quality assurance review procedures outlined in this notice. Applicants that believe they meet the requirements described in this notice should provide this information to HUD by August 23, 2005. Applicants that have already provided this information to HUD do not need to resubmit the information.

Procedures for Submitting Applications

Upon the conclusion of HUD's review, applicants will be notified of HUD's determination through means that provide for confirmation that the applicant has received notification. If HUD determines that the applicant correctly followed the electronic application submission requirements of the SuperNOFA and advice from the Grants.gov help desk but was unable to submit an application because of technological problems, the applicant will be given five business days to submit a hard copy application to HUD commencing from the date of confirmation of the applicant's receipt of HUD's notification. The paper copy submission must contain an original signature of the person able to make a legally binding commitment to HUD for the applicant organization. Applicants will be required to submit applications via overnight delivery (United States Postal Service, Federal Express, or UPS) to the applicable address listed in the appendix to this notice. Hand deliveries are not accepted.

Dated: July 27, 2005.
Roy A. Bernardi,
Deputy Secretary.

BILLING CODE 4210-29-P

[FR Doc. 05-15701 Filed 8-4-05; 11:26 am]

BILLING CODE 4210-29-C